DEPARTMENT OF DEFENSE

Department of the Navy

Notice of Intent To Grant Exclusive Patent License; NanoDynamics, Inc.; Correction

AGENCY: Department of the Navy, DoD.

ACTION: Notice; Correction.

SUMMARY: The Department of the Navy published a document in the Federal Register on August 27, 2008, announcing a Notice of Intent To Grant Exclusive Patent License to NanoDynamics, Inc. The original publication contained incorrect information.

FOR FURTHER INFORMATION CONTACT: Ms. Rita Manak, Head, Technology Transfer Office, NRL Code 1004, 4555 Overlook Avenue, SW., Washington, DC 20375-5320, telephone: 202-767-3083. Due to U.S. Postal delays, please fax: 202-404-7920, e-mail: techtran@utopia.nrl.navy.mil or use courier delivery to expedite response.

Correction

In the Federal Register of August 27, 2008, in FR Doc. E8-19852, make the following changes:

1. In the third column, on page 50600 and the first column on page 50601, correct the SUMMARY caption to read as follows:

“SUMMARY: The Department of the Navy hereby gives notice of its intent to grant to NanoDynamics, Inc., a revocable, nonassignable, exclusive license to practice in the field of use of Building Materials which shall mean the use of any and all substances as a biocide in building materials including but not limited to, grouts, cements, parging materials, stuccos, and mortars; and wallboards, and cellulose-based materials such as wallboard papers, wallpapers, particleboard, paneling, medium density fiberboard (MDF) paneling, plywood, chipboard, and ceiling tile; and caulks, sealants and adhesives; and high pressure laminates, including wall, counter top and floor coverings or components thereof; and ceramics, cultured marbles, and tiles; and non-cellulose (i.e. polymer) based wallpapers, paneling, and other wall, counter top, and floor coverings or components; and insulations.

It also includes the field of use of Paint for the elution of biocides and any and all substances in paints, sealers, fillers, varnishes, shellac, polyurethane coatings, and any and all “paint like” coatings applied in liquid form to any and all surfaces for the beautification or protection of surfaces in structures or components thereof, including but not limited to, buildings, marine structures (including boats), furniture and other normally “painted” materials.

Additionally, it includes the field of use for the elution of any and all substances for sub-surface chemical treatment in oil and gas wells and the chemical treatment of the interior surfaces of surface piping used in the petroleum industry in the United States and certain foreign countries, the Government-owned inventions described in U.S. Patent No. 5,492,696: Controlled Release Microstructures, Navy Case No. 76,896; U.S. Patent No. 5,651,976: Controlled Release of Active Agents Using Inorganic Tubules, Navy Case No. 76,652; U.S. Patent No. 6,280,759: Method of Controlled Release and Controlled Release Microstructures, Navy Case No. 78,215 and any continuations, divisionals or re-issues thereof.”

2. In the first column on page 50601, correct the DATES caption to read as follows:

“DATES: Anyone wishing to object to the grant of this license must file written objections along with supporting evidence, if any, not later than November 28, 2008.”

Dated: November 4, 2008.
T.M. Cruz,
Lieutenant Commander, Judge Advocate General's Corps, U.S. Navy, Federal Register Liaison Officer.

[FR Doc. E8-26907 Filed 11-12-08; 8:45 am]

BILLING CODE 3810-FF-P